DEPARTMENT OF DEFENSE

GENERAL SERVICES ADMINISTRATION

NATIONAL AERONAUTICS AND SPACE ADMINISTRATION

[OMB Control No. 9000-0188; Docket No. 2018-0003; Sequence No. 1]

Information Collection; Combating Trafficking in Persons

AGENCY: Department of Defense (DOD), General Services Administration (GSA), and National Aeronautics and Space Administration (NASA).

ACTION: Notice of request for public comments regarding a revision and extension to an existing OMB clearance.

SUMMARY: Under the provisions of the Paperwork Reduction Act, the Regulatory Secretariat Division (MVCB) announces the proposed extension of a public information collection requirement and seeks public comment on the provisions thereof. The Office of Management and Budget (OMB) has approved this information collection requirement for use through April 30, 2018. OMB will be requested to extend its approval for three additional years.

DATES: Submit comments on or before May 25, 2018.

ADDRESSES: Submit comments identified by Information Collection 9000-0188, Combating Trafficking in Persons by any of the following methods:

• Regulations.gov: http://www.regulations.gov. Submit comments via the Federal eRulemaking portal by searching the OMB control number 9000-0188. Select the link “Comment Now” that corresponds with “Information Collection 9000-0188, Combating Trafficking in Persons. Follow the instructions provided on the screen. Please include your name, company name (if any), and “Information Collection 9000-0188, Combating Trafficking in Persons, on your attached document.

• Mail: General Services Administration, Regulatory Secretariat Division (MVCB), 1800 F Street NW, Washington, DC 20405. ATTN: Ms. Mandell/IC 9000-0188, Combating Trafficking in Persons.

Instructions: Please submit comments only and cite Information Collection 9000-0188, Combating Trafficking in Persons, in all correspondence related to this collection. Comments received generally will be posted without change to regulations.gov, including any personal and/or business confidential information provided. To confirm receipt of your comment(s), please check regulations.gov, approximately two-to-three business days after submission to verify posting (except allow 30 days for posting of comments submitted by mail).

FOR FURTHER INFORMATION CONTACT: Ms. Cecelia L. Davis, Procurement Analyst, Acquistion Policy Division, via telephone 202-219-0202, or via email cecelia.davis@gsa.gov.

SUPPLEMENTARY INFORMATION:

A. Purpose

This is a requirement for a revision and renewal of OMB control number 9000-0188, Combating Trafficking in Persons.

Executive Order (E.O.) 13627, entitled Strengthening Protections Against Trafficking in Persons in Federal Contracts, dated September 25, 2012 (77 FR 60029, October 2, 2012) and Title XVII of the National Defense Authorization Act for Fiscal Year 2013 (Pub. L. 112-239, enacted January 2, 2013) strengthen the long standing zero-tolerance policy of the United States regarding Government employees and contractor personnel engaging in any form of trafficking in persons.

Contractors are required to inform the contracting officer and the agency Inspector General of any credible information it receives from any source that alleges a contractor employee, subcontractor, or subcontractor employee, or their agent has engaged in conduct that violates the policy in paragraph (b) of the clause 52.222-50. This requirement flows down to all subcontractors.

Additional protections are required where the estimated value of the supplies (other than commercially available off-the-shelf (COTS) items) to be acquired outside the United States, or the services to be performed, outside the United States has an estimated value that exceeds $500,000. These protections include the following: (a) The contractor is required to implement and maintain a compliance plan during the performance of the contract that includes an awareness program, a process for employees to report activity inconsistent with the zero-tolerance policy, a recruitment and wage plan, a housing plan, and procedures to prevent subcontractors from engaging in trafficking in persons; and (b) The contractor is required to submit a certification to the contracting officer prior to receiving an award, and annually thereafter, asserting that it has the required compliance plan in place and that there have been no abuses, or that appropriate actions have been taken if abuses have been found. The compliance plan must be provided to the contracting officer upon request, and relevant portions of it must be posted at the workplace and on the contractor's website. Additionally, contractors are required to flow these requirements down to any subcontracts where the estimated value of the supplies acquired or the services required to be performed outside the United States exceeds $500,000.

B. Annual Reporting Burden

Title, Associated Form, and OMB Number: Ending Trafficking in Persons, FAR 22.1705 and FAR 52.222-50 and 52.222-56; OMB Control Number 9000-0188.

Adjustment: This information collection is revised to include appropriate burden hours for reporting that was initially published in FAR Case 2013-001 (78 FR 59317 and 80 FR 4967) for FAR clause 52.222-50, Combating Trafficking in Persons, and provision 52.222-56, Certification Regarding Trafficing in Persons Compliance Plan. The full burden associated with this FAR Case was inadvertently omitted in the Paperwork Reduction Act notice published on August 20, 2014 (78 FR 59317). The following represents current burdens associated with the FAR clause and provision that were published in the proposed and final rules.

Affected Public: Businesses and other for-profit entities.

Respondent's Obligation: Required to obtain or retain benefits.

Type of Request: Revision of a currently approved collection.

Reporting Frequency: On occasion.

Respondents: 5,909.

Responses per Respondent: 3.

Annual Responses: 17,727.

Hours per Response: 12.

Total Burden Hours: 212,724.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW, Washington, DC 20405, telephone 202-501-4755.

Please cite OMB Control No. 9000-0188, Combating Trafficking in Persons, in all correspondence.

Dated: March 20, 2018.
Lorin S. Curit,
Director, Federal Acquisition Policy Division, Office of Governmentwide Acquisition Policy, Office of Acquisition Policy, Office of Governmentwide Policy.

[FR Doc. 2018-06043 Filed 3-23-18; 8:45 am]

BILLING CODE 6820-EP-P